NUCLEAR REGULATORY COMMISSION

Notice of Public Meeting for Fuel Cycle Facilities

AGENCY: Nuclear Regulatory Commission.

ACTION: Meeting notice and request for speakers.

FOR FURTHER INFORMATION CONTACT: James Smith, Project Manager, Technical Support Section, Division of Fuel Cycle Safety and Safeguards, Office of Nuclear Material Safety and Safeguards, U.S. Nuclear Regulatory Commission, Washington, DC 20005-0001. Telephone: (301) 415-6459; fax number: (301) 415-5370; e-mail: jas4@nrc.gov.

SUPPLEMENTARY INFORMATION:

I. Introduction

The Nuclear Regulatory Commission (NRC) is hosting a seminar, The Fuel Cycle Information Exchange 2006 (FCIX 2006), on August 30 and 31, 2006, to provide an opportunity for licensees, NRC staff, and other stakeholders to exchange information and discuss issues of interest pertaining to the regulation of NRC-regulated fuel cycle facilities.

The seminar will be held in Rockville, Maryland, at the Universities of Maryland at the Shady Grove Campus Auditorium and will be open to the public. Fuel Cycle licensees and other interested parties were previously notified of the possibility of this meeting in a letter from Robert Pierson, dated November 28, 2005, (ADAMS accession number ML053220226). In that letter, Mr. Pierson also solicited topics of discussion and volunteer speakers for the meeting. We are expecting that NRC staff, licensees and certificate holders, and other interested parties and stakeholders will be making presentations on varying subjects of interest, with opportunity for followup discussion on each subject.

The proposed items of discussion are listed below; however, the NRC is seeking additional speakers to discuss topics of a broad nature, relative to the nuclear fuel cycle. If you would like an opportunity to discuss an issue, or to offer an additional topic of discussion, please contact the staff member listed below.

II. Currently Proposed Topics of Discussion

10 CFR Part 70, Subpart H Implementation Issues.

Databases and Items Relied on for Safety (IROFS) Tracking Systems.

Boundaries of IROFS.

Impact of Increased Use of Nuclear Energy in Domestic Electricity Generation.

IAEA Safety Documents Related to Fuel Cycle Facilities.

Status Report of Current NRC Fuel Cycle Related Initiatives.

360-Degree Feedback From the Industry and Public of Issues of Interest Pertaining to the Regulation of NRC-Regulated Fuel Cycle Facilities.

Overview and Experience Under the NRC's New Hearing Process by Fuel Cycle Applicants and Licensees.

III. Dates and Location

Universities of Maryland at the Shady Grove Campus Auditorium, 9630 Gudelsky Drive, Rockville, MD 20850.

Dates: August 30, 2006, 9 a.m.-4:30 p.m.; August 31, 2006, 9 a.m.-12 p.m.

IV. Contact

James Smith, Project Manager, Office of Nuclear Material Safety and Safeguards, Division of Fuel Cycle Safety and Safeguards, Special Projects Branch, Mail Stop: T8F42, 301-415-6459, Fax: 301-415-5370, e-mail: jas4@nrc.gov.

V. Further Information

The document related to this action is available electronically at the NRC's Electronic Reading Room at http://www.nrc.gov/reading-rm/adams.html. From this site, you can access the NRC's Agencywide Documents Access and Management System (ADAMS), which provides text and image files of NRC's public documents. The ADAMS ascension number for the document related to this notice is provided in the following table. If you do not have access to ADAMS or if there are problems in accessing the document located in ADAMS, contact the NRC Public Document Room (PDR) Reference staff at 1-800-397-4209, 301-415-4737, or by e-mail to pdr@nrc.gov.

Dated at Rockville, Maryland, this 15th day of June 2006.
For the Nuclear Regulatory Commission.
Dennis C. Morey,
Acting Chief, Technical Support Section, Special Projects Branch, Division of Fuel Cycle Safety and Safeguards, Office of Nuclear Material Safety and Safeguards.

[FR Doc. E6-9923 Filed 6-22-06; 8:45 am]

BILLING CODE 7590-01-P